DEPARTMENT OF HEALTH AND HUMAN SERVICES

National Institutes of Health

Center for Scientific Review; Amended Notice of Meeting

Notice is hereby given of a change in the meeting of the Center for Scientific Review Special Emphasis Panel, October 27, 2010, 2:30 p.m. to October 27, 2010, 5:30 p.m., National Institutes of Health, 6701 Rockledge Drive, Bethesda, MD, 20892 which was published in the Federal Register on September 30, 2010, 75 FR 60465-60466.

The meeting has been changed to an Internet Assisted Meeting (IAM). The meeting will be two days October 27, 2010, from 8 a.m. to October 28, 2010, 6 p.m. The meeting is closed to the public.

Dated: October 4, 2010.
Jennifer S. Spaeth,
Director, Office of Federal Advisory Committee Policy.

[FR Doc. 2010-25598 Filed 10-8-10; 8:45 am]

BILLING CODE 4140-01-P